DEPARTMENT OF STATE

[Public Notice 5335]

Bureau of Political-Military Affairs: Suspension of Defense Export Licenses to Eritrea

AGENCY: Department of State.

ACTION: Notice.

SUMMARY: Notice is hereby given that, pursuant to section 38 of the Arms Export Control Act and effective as of September 12, 2005 all new applications for licenses and approvals of defense articles and services for the export or transfer to Eritrea under the Arms Export Control Act (AECA) are suspended. An exception is made for such items that support U.S. anti-terrorism and de-mining programs, are necessary to meet U.S. commitments under international conventions, and are necessary for United Nations and other appropriate peacekeeping personnel and operation. Licenses and approvals authorized prior to September 12, 2005 continue to be valid.

DATES: Effective Date: September 12, 2005.

FOR FURTHER INFORMATION CONTACT: Mr. James Juraska, Office of Defense Trade Controls Policy, Department of State, Telephone (202) 663-22860 or FAX (202) 261-8199.

SUPPLEMENTARY INFORMATION: It is the policy of the U.S. Government, effective as of September 12, 2005 to suspend all licenses and approvals for the export or transfer to Eritrea of defense articles and services. An exception is made allowing for the export or transfer to Eritrea of defense articles and defense services which support U.S. anti-terrorism, counter-terrorism, and de-mining programs, are necessary for United Nations and other appropriate peacekeeping operations, are necessary to meet U.S. commitments under international conventions, or that are temporary exports of protective clothing, to include flak jackets and military helmets, for individual use by United Nations personnel, media representatives, and humanitarian and development workers.

These actions are taken in accordance with Section 405(a)(13)(B) of the International Religious Freedom (IRF) Act. Eritrea, designated a Country of Particular Concern by Secretary Powell in September 2004 for severe violations of religious freedom, continues to act egregiously to deny the rights of worshippers. Current practices include closing all churches but those officially sanctioned by the Government of the State of Eritrea (GSE), imprisonment of hundreds of worshippers without trial, detention of prisoners in metal shipping containers in the desert (punishment cells), and an ongoing denial from the GSE of any significant religious freedom problem. Despite the attempts of several U.S. officials, talks with senior GSE representatives have proved futile.

Per Section 409 of the IRF Act, this ban will last for two years, unless expressly reauthorized, or unless the Secretary determines at an earlier date that the GSE “has ceased or taken substantial and verifiable steps to cease the particularly severe violations of religious freedom.”

The licenses and approvals for Eritrea subject to this policy include manufacturing licenses, technical assistance agreements, technical data, and all commercial exports of defense articles and services subject to the Arms Export Control Act, with the exclusion of those types of defense articles and services cited above. The foregoing includes any agreement that proposes Eritrea as a sales territory.

Notwithstanding this new policy, authorizations granted prior to September 12, 2005 for the export or transfer to Eritrea of defense articles and services subject to the ITAR remain valid. The range of prior licenses and approvals for Eritrea that remain valid include manufacturing licenses, technical assistance agreements, technical data, and all commercial exports of defense articles and services subject to the Arms Export Control Act.

This action is taken pursuant to Sections 38 and 42 of the Arms Export Control Act (22 U.S.C. 2778, 2791) and § 126.7 of the ITAR in furtherance of the foreign policy of the United States.

John Hillen,
Assistant Secretary, Bureau of Political Military Affairs, Department of State.

[FR Doc. E6-3133 Filed 3-3-06; 8:45 am]

BILLING CODE 4710-25-P